DEPARTMENT OF DEFENSE

Department of the Army

Notice of Availability for Exclusive, Non-Exclusive, or Partially; Exclusive Licensing of an Invention Concerning the Intrepid Dynamic Exoskeletal Orthosis

AGENCY: Department of the Army, DoD.

ACTION: Notice.

SUMMARY: Announcement is made of the availability for licensing of the invention set forth in U.S. Provisional Patent Application Serial No. 61/518,801, entitled “Intrepid Dynamic Exoskeletal Orthosis (IDEO),” filed on April 20, 2011. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a dynamic exoskeletal orthosis applied to the leg below the knee, designed to compensate for weakness, pain, and/or decreased range of motion at the ankle.

Brenda S. Bowen,
Army Federal Register Liaison Officer.

[FR Doc. 2011-14803 Filed 6-14-11; 8:45 am]

BILLING CODE 3710-08-P